ENVIRONMENTAL PROTECTION AGENCY

[ER-FRL-9007-5]

Environmental Impacts Statements; Notice of Availability

Responsible Agency: Office of Federal Activities, General Information (202) 564-7146 or http://www.epa.gov/compliance/nepa/.

Weekly receipt of Environmental Impact Statements Filed 01/28/2013 Through 02/01/2013

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp.

EIS No. 20130019, Draft EIS, USFS, OR,Ochoco Summit Trail System Project, Ochoco National Forest, Wheeler and Crook Counties, OR, Comment Period Ends: 03/25/2013, Contact: Dede Steele 541-416-6500.

EIS No. 20130020, Second Final EIS (Tiering),FHWA, ME, Aroostook County Transportation Study, Tier 2—Presque Isle Bypass, Aroostook County, ME, Review Period Ends: 03/11/2013, Contact: Mark Hasselmann 207-512-4913.

EIS No. 20130021, Draft EIS, USFS, MS,Revised Land and Resource Management Plan for the National Forests in Mississippi, Comment Period Ends: 05/08/2013, Contact: Jeff Long 601-965-1629.

EIS No. 20130022, Final EIS, NPS, AK,Brooks River Visitor Access, Katmai National Park and Preserve, AK, Review Period Ends: 03/11/2013, Contact: Brooke Merrell (907) 644-3397.

EIS No. 20130023, Final EIS, BR, CA,Water Transfer Program for the San Joaquin River Exchange Contractors Water Authority, 2014-2038, To Execute Agreements for Water Transfers/or Exchanges, San Joaquin Valley, Fresno, Madera, Merced, and Stanislaus Counties, CA, Review Period Ends: 03/11/2013, Contact: Brad Hubbard 916-978-5204.

EIS No. 20130024, Draft EIS, USFS, MT,Pilgrim Creek Timber Sale Project, Kootenai National Forest, Cabinet Ranger District, Sanders County, MT, Comment Period Ends: 03/25/2013, Contact: Doug Grupenhoff 406-827-0741.

EIS No. 20130025, Draft EIS, CALTRAN, CA,State Route 79 Realignment Project, Domenigoni Parkway to Gilman Springs Road, Riverside County, CA, Comment Period Ends: 03/25/2013, Contact: Aaron Burton 909-383-2841.

Amended Notices

EIS No. 20120401, Final EIS, DOE, MA,Adoption—Cape Wind Energy Project Nantucket Sound, Offshore of Massachusetts, DOE/EIS-0470, Barnstable, Nantucket and Duke Counties, MA and Washington County, RI, Review Period Ends: 03/11/2013, Contact: Matthew McMillen 202-586-7248.

Revision to FR Notice Published 12/31/2012; Extending Review Period from 01/29/2013 to 03/11/2013.

Dated: February 5, 2013.
Cliff Rader,
Director, NEPA Compliance Division, Office of Federal Activities.

[FR Doc. 2013-02916 Filed 2-7-13; 8:45 am]

BILLING CODE 6560-50-P